DEPARTMENT OF COMMERCE

Census Bureau

The American Community Survey; Proposed Collection; Comment Request

ACTION: Proposed collection; comment request.

SUMMARY: The Department of Commerce, as part of its continuing effort to reduce paper work and respondent burden, invites the general public and other federal agencies to take this opportunity to comment on proposed or continuing information collections, as required by the Paperwork Reduction Act of 1995, Public Law 104-13 (44 U.S.C. 3506(c)(2)(A)).

DATES: Written comments must be submitted on or before March 18, 2002.

ADDRESSES: Direct all written comments to Madeleine Clayton, Departmental Paperwork Clearance Officer, Department of Commerce, Room 6086, 14th and Constitution Avenue, NW, Washington, DC 20230 (or via the Internet at mclayton@doc.gov).

FOR FURTHER INFORMATION CONTACT: Requests for additional information or copies of the information collection instrument(s) and instructions should be directed to Lawrence McGinn, U.S. Census Bureau, Demographic Surveys Division, Washington, DC 20233. Phone: (301) 457-8050.

SUPPLEMENTARY INFORMATION:

I. Abstract

Given the rapid demographic changes experienced in recent years and the strong expectation that such changes will continue and accelerate, the once-a-decade data collection approach of a decennial census is no longer acceptable. To meet the needs and expectations of the country, the Census Bureau developed the American Community Survey. This survey will collect long-form data every month and provide tabulations of these data on a yearly basis. In the past, the long-form data were collected only at the time of each decennial census. The American Community Survey will allow the Census Bureau to remove the long form from the 2010 Census, thus reducing operational risks, improving accuracy, and providing more relevant data. After years of development and testing, the American Community Survey is ready for full implementation in FY 2003.

The American Community Survey will provide more timely information for critical economic planning by governments and the private sector. In the current information-based economy, federal, state, tribal, and local decisionmakers, as well as private business and nongovernmental organizations, need current, reliable, and comparable socioeconomic data to chart the future. The American Community Survey will provide up-to-date profiles of American communities every year beginning in 2004, providing policymakers, planners, and service providers in the public and private sectors with information every year—not just every ten years.

The American Community Survey must begin full implementation in 2003 to provide comparable data at the census tract level by July 2008. These data are needed by federal agencies and others to provide assurance of long-form type data availability before eliminating the long form from the 2010 Census.

The American Community Survey demonstration period began in 1996 in four sites. In 1999, the number of sites was increased to 31 comparison sites. The comparison with Census 2000 was designed to collect several kinds of information necessary to understand the differences between data from the 1999-2002 American Community Survey and data from the 2000 long form. The purpose of the comparison sites was to give a good tract-by-tract comparison between the 1999-2002 American Community Survey cumulated estimates and the Census 2000 long-form estimates and to use these comparisons to identify both the causes of differences and diagnostic variables that tend to predict a certain kind of difference.

In 2000-2002, the Census Bureau conducted the Census 2000 Supplementary Survey, the 2001 Supplementary Survey, and the 2002 Supplementary Survey using the American Community Survey methodology. Each of these surveys had a sample of approximately 700,000 residential addresses per year. These surveys were conducted to study the operational feasibility of collecting long-form type data in a different methodology from the decennial census, demonstrate the reliability and stability of state and large area estimates over time, and demonstrate the usability of multiyear estimates.

For 2003-2005, the Census Bureau plans to conduct the American Community Survey in every part of the United States and also in Puerto Rico. In November 2002, the Census Bureau will begin full implementation of the American Community Survey by increasing the sample to a total of 250,000 residential addresses per month in the 50 states and the District of Columbia and 3,000 residential addresses per month in Puerto Rico. Data will be collected by mail and Census Bureau staff will follow up with households that do not respond using computer-assisted telephone interviewing (CATI) and computer-assisted personal interviewing (CAPI).

In addition to selecting a sample of residential addresses, the Census Bureau plans to select a sample of group quarters (GQs) and conduct the American Community Survey with a sample of persons within the GQs starting in January 2004. The Census Bureau will also conduct a reinterview operation with a small sample of households to monitor the quality of data collected during the CAPI.

II. Method of Collection

The Census Bureau will mail questionnaires to households selected for the American Community Survey. For households that do not return a questionnaire, Census Bureau staff will attempt to conduct interviews via CATI. We will also conduct CAPI interviews for a subsample of nonrespondents.

For most types of GQs, Census Bureau field representatives (FRs) will either help respondents complete questionnaires or leave questionnaires and ask respondents to return them by mail. For a few GQs, the FRs will attempt to conduct interviews by telephone.

The Census Bureau staff will provide Telephone Questionnaire Assistance (TQA).

The Census Bureau staff will conduct reinterviews using CAPI.

III. Data

OMB Number: 0607-0810.

Form Number(s): ACS-1, ACS-1 (GQ), ACS-3 (GQ), ACS-4(GQ), ACS-290.

Type of Review: Regular.

Affected Public: Individuals and households.

Estimated Number of Respondents: During the period of November 2002 through October 2005, we plan to contact 9,105,000 households, 40,000 persons in group quarters, and 81,000 households for reinterview.

Estimated Time Per Response: Estimates are 38 minutes per household, 15 minutes per person in group quarters, and 10 minutes per household in the reinterview sample.

Estimated Total Annual Burden Hours: 1,930,000 hours.

Estimated Total Annual Cost: Except for their time, there is no cost to respondents.

Respondent Obligation: Mandatory.

Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collections techniques or other forms of information technology.

Comments submitted in response to this notice will be summarized and included in the request for the OMB approval of this information collection; they also will become a matter of public record.

Dated: January 10, 2002.
Madeleine Clayton,
Departmental Paperwork Clearance Officer, Office of the Chief Information Officer.

[FR Doc. 02-1033 Filed 1-15-02; 8:45 am]

BILLING CODE 3510-07-P